DEPARTMENT OF AGRICULTURE

Forest Service

Information Collection: Forest Industries and Logging Operations Data Collection Systems

AGENCY: Forest Service, USDA.

ACTION: Notice; request for comment.

SUMMARY: In accordance with the Paperwork Reduction Act of 1995, the USDA Forest Service is seeking comments from all interested individuals and organizations on the renewal of a currently approved information collection, Forest Industries and Logging Operations Data Collection Systems (0596-0010), with a revision for a new sampling approach.

DATES: Comments must be received in writing on or before September 17, 2018 to be assured of consideration. Comments received after that date will be considered to the extent practicable.

ADDRESSES: Comments concerning this notice should be addressed to: USDA, Forest Service, Attn: James Bentley, Southern Research Station, Forest Inventory and Analysis, 4700 Old Kingston Pike, Knoxville, TN 37919. Comments also may be submitted via facsimile to 865-862-0262 or by email to: jamesbentley@fs.fed.us.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect comments received at the Southern Research Station, 4700 Old Kingston Pike, Knoxville, TN, during normal business hours. Visitors are encouraged to call ahead to 865-862-2000 to facilitate entry to the building.

FOR FURTHER INFORMATION CONTACT: James Bentley, Southern Research Station, at 865-862-2056. Individuals who use telecommunication devices for the deaf (TDD) may call the Federal Relay Service (FRS) at 1-800-877-8339 twenty-four hours a day, every day of the year, including holidays.

SUPPLEMENTARY INFORMATION:

Title: Forest Industries and Logging Operations Data Collection Systems.

OMB Number: 0596-0010.

Expiration Date of Approval: December 31, 2019.

Type of Request: Renewal with Revision.

Abstract: The Forest and Range Renewable Resources Planning Act of 1974 and the Forest and Rangeland Renewable Resources Research Act of 1978 require the Forest Service to evaluate trends in the use of logs and wood chips, to forecast anticipated levels of logs and wood chips, and to analyze changes in the harvest of these resources from the Nation's forest resource. This important survey has been conducted since the 1940s, with various adjustments along the ways to accommodate new questions or data collection needs. Information provided in this data collection can be used to:

• Describe the timber resource and its use in detail;

• Evaluate trends in resource use;

• Forecast future anticipated level of demand on the resource; and

• Analyze the ramifications of any changes in timber demand.

For this renewal, we are proposing a new sample design to guide the annual collection of information from primary wood-using mills, replacing the periodic approach. This new approach is more efficient and cost-effective, and ultimately will generate more accurate, comprehensive, and timely information.

To collect this information, USDA Forest Service or state natural resource agency personnel will use three questionnaires. Two questionnaires, the Pulpwood Questionnaire and the Logs and Other Roundwood Questionnaire, will be paper or electronic. Paper questionnaires will be returned in pre-paid postage envelopes, and electronic questionnaires returned via email. The third questionnaire, the Logging Operations Questionnaire, will be administered in person by field personnel collecting tree utilization data at sampled logging sites.

Pulpwood Received Questionnaire: USDA Forest Service personnel will use this questionnaire to collect and evaluate information from pulp mills in order to monitor the volume, types, species, sources, and prices of timber products harvested throughout the United States. The data collected will be used to provide essential information about the current use of the Nation's timber resources for pulpwood industrial products and is not available from other sources.

Logs and Other Roundwood Received Questionnaire: This questionnaire is used by USDA Forest Service or state natural resource agency personnel to collect and evaluate information from the other, non-pulp, primary wood-using mills, including small, part-time mills, as well as large corporate entities. Primary wood-using mills are facilities that use harvested wood in log or chip form, such as sawlogs, veneer logs, composite panel, posts, and poles, to manufacture a secondary product, such as lumber or veneer. USDA Forest Service personnel evaluate the information collected and use it to monitor the volume types, species, sources, and prices of timber products harvested throughout the United States.

Logging Operations Questionnaire: This questionnaire is used by USDA Forest Service and/or state natural resource agency personnel to collect and evaluate information from logging operations, to help characterize the logging industry and its response to outside influences. The information will be used to measure the `health' of the logging industry, as well as to provide background information for decision-making.

Affected Public: Individuals and the Private Sector (Businesses and Non-Profit Organizations), in particular mill owners, procurement foresters, logging operations owners, and loggers will be affected.

Estimate of Burden per Response: An average of 30 minutes for the Pulpwood Questionnaire for 132 respondents (estimated); an average of 42 minutes for the Logs and Other Roundwood Questionnaire for 2,875 respondents (estimated); an average of 11 minutes for the Logging Operations Questionnaire for 435 respondents (estimated).

Estimated Annual Number of Respondents: 3,442.

Estimated Annual Number of Responses per Respondent: 1.

Estimated Total Annual Burden on Respondents: 2,147 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: June 29, 2108.
Carlos Rodriguez-Franco,
Deputy Chief for Research and Development.

[FR Doc. 2018-15228 Filed 7-16-18; 8:45 am]

BILLING CODE 3411-15-P